DEPARTMENT OF JUSTICE

Antitrust Division

Notice Pursuant to the National Cooperative Research and Production Act of 1993—Smart Active Label Consortium, Inc.

Notice is hereby given that, on September 20, 2004, pursuant to section 6(a) of the National Cooperative Research and Production Act of 1993, 15 U.S.C. 4301 et seq. (“the Act”), Smart Active Label Consortium, Inc., (“SAL”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Smart Active Label Consortium, Inc., Wakefield, MA. The nature and scope of SAL's standards development activities are: (a) To bring smart active label technology into use in a wide range of industries; and (b) to bring together a critical mass of technology suppliers, manufacturers, solutions providers, end-users, standards organizations, governmental bodies, and academic institutions.

Dorothy B. Fountain,
Deputy Director of Operations, Antitrust Division.

[FR Doc. 04-26203 Filed 11-26-04; 8:45 am]

BILLING CODE 4410-11-M